DEPARTMENT OF LABOR

Mine Safety and Health Administration

Technical Study Panel on the Utilization of Belt Air and the Composition and Fire Retardant Properties of Belt Materials in Underground Coal Mining

AGENCY: Mine Safety and Health Administration (MSHA), Labor.

ACTION: Notice of meeting, public comment deadline.

SUMMARY: This notice informs interested persons of the fifth meeting of the Technical Study Panel (Panel) on the Utilization of Belt Air and the Composition and Fire Retardant Properties of Belt Materials in Underground Coal Mining. The public is invited to attend. This notice also informs interested persons of the deadline for submission of public comments to the Panel.

DATES: Comments must be received by MSHA on or before August 15, 2007. The meeting will be held on September 17-19, 2007. The meeting will start at 9 a.m. each day and conclude by 5 p.m.

ADDRESSES: Comments must be clearly identified with “Technical Study Panel on the Utilization of Belt Air” and may be sent to MSHA by any of the following methods:

(1) Telefax: (202) 693-9441. Include “Technical Study Panel on the Utilization of Belt Air” in the subject line.

(2) Regular Mail: MSHA, Office of Standards, Regulations, and Variances, 1100 Wilson Boulevard, Room 2350, Arlington, Virginia 22209-3939.

(3) Hand Delivery or Courier: MSHA, Office of Standards, Regulations, and Variances, 1100 Wilson Boulevard, Room 2350, Arlington, Virginia 22209-3939. Stop by the 21st floor and sign in at the receptionist's desk.

The meeting location is the Sheraton Reston Hotel, 11810 Sunrise Valley Drive, Reston, Virginia 20191 (Telephone: (703-620-9000).

FOR FURTHER INFORMATION CONTACT: Patricia W. Silvey, Director, Office of Standards, Regulations, and Variances, Mine Safety and Health Administration, 1100 Wilson Boulevard, Room 2350, Arlington, Virginia 22209-3939; silvey.patricia@dol.gov (internet e-mail), 202-693-9440 (voice), or 202-693-9441 (facsimile).

SUPPLEMENTARY INFORMATION: The Panel was created under section 11 of the Mine Improvement and New Emergency Response (MINER) Act of 2006 (Pub. L. 109-236). The purpose of the Panel is to provide independent scientific and engineering review and recommendations concerning the utilization of belt air and the composition and fire retardant properties of belt materials in underground coal mining. In December 2007, the Panel must submit a report to the Secretaries of Labor and Health and Human Services, the Senate Committee on Health, Education, Labor and Pensions, and the House Committee on Education and the Workforce. The first meeting of the Panel was held in Washington, DC on January 9-10, 2007. The second meeting of the Panel was held in Coraopolis, Pennsylvania on March 28-30, 2007. The third meeting of the Panel was held in Salt Lake City, Utah on May 16-17, 2007. The fourth meeting of the Panel was held in Birmingham, Alabama on June 20-21, 2007.

The agenda for the fifth meeting will include:

(1) Delivery of subcommittee recommendations to the Panel for discussion;

(2) Panel deliberation and voting on the recommendations; and

(3) Preparation of the Panel's report.

The public is invited to attend. However, unlike the previous meetings, no public input will be taken during this meeting due to the work process. All public comment must be received by MSHA no later than August 15, 2007 in order for the Panel to have adequate time to review submitted material.

MSHA will incorporate all written submissions into the official record, which includes the transcript, and will make them available to the public.

The public may inspect the official record of the meetings at the MSHA address listed above under the heading FOR FURTHER INFORMATION CONTACT. In addition, this information will be posted on the Agency's single source webpage titled “The Technical Study Panel on the Utilization of Belt Air and the Composition and Fire Retardant Properties of Belt Materials in Underground Coal Mining Single Source Page.” The Single Source page is located at http://www.msha.gov/BeltAir/BeltAir.asp.

Dated: July 26, 2007.
Richard E. Stickler,
Assistant Secretary for Mine Safety and Health.

[FR Doc. E7-14899 Filed 7-31-07; 8:45 am]

BILLING CODE 4510-43-P